OVERSEAS PRIVATE INVESTMENT CORPORATION

Sunshine Act Notice; Board of Directors Meeting

Time and Date: Thursday, July 28, 2005, 10 a.m. (open portion); 10:15 a.m. (closed portion).

Place: Offices of the Corporation, Twelfth Floor Board Room, 1100 New York Avenue, NW., Washington, DC.

Status: Meeting open to the Public from 10 a.m. to 10:15 a.m. Closed portion will commence at 10:15 a.m. (approx.).

Matters to be considered:

1. President's Report

2. Testimonial—Patrick Pizzella

3. Approval of April 28, 2005 Minutes (open portion)

Further Matters To Be Considered: (Closed to the Public 10:15 a.m.)

1. Finance Project—Iraq

2. Finance Project—West Bank/Gaza

3. Finance Project—Guatemala

4. Finance Project—Middle East and North Africa

5. Finance Project—Iraq

6. Finance Project—Asia

7. Finance Project—Africa

8. Approval of April 28, 2005 Minutes (closed portion)

9. Pending Major Projects

10. Reports

Contact Person for Information: Information on the meeting may be obtained from Connie M. Downs at (202) 336-8438.

Dated: July 14, 2005.
Connie M. Downs,
Corporate Secretary, Overseas Private Investment Corporation.

[FR Doc. 05-14218 Filed 7-15-05; 10:59 am]

BILLING CODE 3210-01-M